DEPARTMENT OF EDUCATION

Applications for New Awards; Expanding Opportunity Through Quality Charter Schools Program (CSP)—Model Development and Dissemination Grants; Correction

AGENCY: Office of Elementary and Secondary Education, Department of Education.

ACTION: Notice; correction.

SUMMARY: On May 16, 2025, the Department of Education (Department) published in the Federal Register a notice inviting applications (NIA) for the fiscal year (FY) 2025 CSP—Model Development and Dissemination Grants competition, Assistance Listing Number (ALN) 84.282G. This notice corrects an error in that NIA. All other information in the NIA remains the same. The CSP—Model Development and Dissemination Grants program does not include any program-specific limitation on administrative expenses. The Department is correcting the FY 2025 CSP—Model Development and Dissemination Grants NIA by removing a misstatement indicating that there is a limitation on administrative expenses under the CSP—Model Development and Dissemination Grants program.

DATES: This correction is applicable June 9, 2025.

FOR FURTHER INFORMATION CONTACT: Sareeta Schmitt, U.S. Department of Education, 400 Maryland Avenue SW, Washington, DC 20202-5970. Telephone: (202) 205-0730. Email: MDDCompetition@ed.gov.

If you use a telecommunications device for the deaf (TDD) or a text telephone (TTY), call the Federal Relay Service (FRS), toll free, at 1-800-877-8339.

SUPPLEMENTARY INFORMATION: We are correcting the May 16, 2025, NIA to remove the statement that no more than 5 percent of grant funds may be used for direct administration of the grant project because, as stated in another section of the NIA, the program does not include any program-specific limitation on administrative expenses.

Correction

In FR Doc. No. 2025-08766, in the Federal Register published on May 16, 2025 (90 FR 21021), we make the following correction:

On Page 21026, in the first column, under the heading 4. Funding Restrictions, revise the last paragraph in this section to remove the statement, “In accordance with section 437(d)(1) of GEPA, 20 U.S.C. 1232(d)(1), we establish that no more than 5 percent of grant funds may be used for direct administration of the grant project.” This correction is necessary to clarify that the program does not impose specific limits on administrative expenses.

Program Authority: Title IV, part C of the ESEA, as amended.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Hayley B. Sanon,
Principal Deputy Assistant Secretary and Acting Assistant Secretary, Office of Elementary and Secondary Education.

[FR Doc. 2025-10367 Filed 6-6-25; 8:45 am]

BILLING CODE 4000-01-P